DEPARTMENT OF TRANSPORTATION

Federal Highway Administration

[Docket No. FHWA-2012-0084]

Agency Information Collection Activities: Request for Comments for a New Information Collection

AGENCY: Federal Highway Administration (FHWA), DOT.

ACTION: Notice and request for comments.

SUMMARY: FHWA invites public comments about our intention to request the Office of Management and Budget's (OMB) approval for a new information collection, which is summarized below under SUPPLEMENTARY INFORMATION. We are required to publish this notice in the Federal Register by the Paperwork Reduction Act of 1995.

DATES: Please submit comments by October 15, 2012.

ADDRESSES: You may submit comments identified by DOT Docket ID 2012-0084 by any of the following methods:

Web Site: For access to the docket to read background documents or comments received; go to the Federal eRulemaking Portal: Go to http://www.regulations.gov. Follow the online instructions for submitting comments.

Fax: 1-202-493-2251.

Mail: Docket Management Facility, U.S. Department of Transportation, West Building Ground Floor, Room W12-140, 1200 New Jersey Avenue SE., Washington, DC 20590-0001.

Hand Delivery or Courier: U.S. Department of Transportation, West Building Ground Floor, Room W12-140, 1200 New Jersey Avenue SE., Washington, DC 20590, between 9 a.m. and 5 p.m. ET, Monday through Friday, except Federal holidays.

FOR FURTHER INFORMATION CONTACT: James Dahlem, 202-366-9265 or james.dahlem@dot.gov, Office of Safety, Federal Highway Administration, Department of Transportation, 1200 New Jersey Avenue SE., Washington, DC 20590. Office hours are from 8 a.m. to 5 p.m., Monday through Friday, except Federal holidays.

SUPPLEMENTARY INFORMATION: Title: Study of High-Risk Rural Roads Best Practices.

Background: Section 1112 of the “Moving Ahead for Progress in the 21st Century Act” of 2012 (MAP-21) calls for a study of the best practices for implementing cost-effective roadway safety infrastructure improvements on high-risk rural roads. In carrying out the study, FHWA is required to conduct a nationwide survey of the current practices of various agencies. The results of the survey are to be used in conjunction with a research study to create a report to submit to the Committee on Environment and Public Works of the Senate and the Committee on Transportation and Infrastructure of the House of Representatives by October 1, 2013. The report is required to include: (1) A summary of cost-effective roadway safety infrastructure improvements; (2) a summary of the latest research on the financial savings and reductions in fatalities and serious bodily injury crashes from the implementation of cost-effective roadway safety infrastructure improvements; and (3) and recommendations for State and local governments on best practice methods to install cost-effective roadway safety infrastructure on high-risk rural roads. The legislation also requires the results of the survey and the report to be used to create a best-practices manual to support Federal, State, and local efforts to reduce fatalities and serious injuries on high-risk rural roads.

Respondents: The respondents will include all 50 State Departments of Transportation. In addition, a representative sampling of 100 local agencies, such as county highway departments and municipal public works agencies, will be surveyed.

Frequency: Once.

Estimated Average Burden per Response: Approximately 8 hours.

Estimated Total Annual Burden Hours: The total burden for this collection is approximately 1,200 hours.

Public Comments Invited: You are asked to comment on any aspect of this information collection, including: (1) Whether the proposed collection is necessary for the FHWA's performance; (2) the accuracy of the estimated burden; (3) ways for the FHWA to enhance the quality, usefulness, and clarity of the collected information; and (4) ways that the burden could be minimized, including the use of computer technology, without reducing the quality of the collected information. The agency will summarize and/or include your comments in the request for OMB's clearance of this information collection.

Authority: The Paperwork Reduction Act of 1995; 44 U.S.C. Chapter 35, as amended; and 49 CFR 1.48.

Issued On: August 7, 2012.
Steven Smith,
Chief, Information Technology Division.

[FR Doc. 2012-19864 Filed 8-13-12; 8:45 am]

BILLING CODE P